DEPARTMENT OF TRANSPORTATION

Federal Aviation Administration

14 CFR Part 39

[Docket No. FAA-2010-0799; Directorate Identifier 2010-NM-157-AD; Amendment 39-16414; AD 2010-18-01]

RIN 2120-AA64

Airworthiness Directives; Empresa Brasileira de Aeronautica S.A. (EMBRAER) Model ERJ 170 and ERJ 190 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

It has been found the possibility of right hand (RH) engine compressor stall after the Auxiliary Power Unit (APU) becomes the active bleed source for the left side.

The most critical condition identified is:

—Both engines close to idle (e.g.: descent phase); and

—APU running; and

—APU bleed button pushed in.

In this condition, if the left hand (LH) engine fails, the APU bleed valve and the crossbleed valve may be both in the open position for a few seconds, [which] may lead to a backpressure in RH engine depending on APU bleed pressure. Such backpressure may cause an RH engine compressor stall, culminating in a dual engine failure.

* * * * *

This AD requires actions that are intended to address the unsafe condition described in the MCAI.

DATES: This AD becomes effective September 9, 2010.

The Director of the Federal Register approved the incorporation by reference of a certain document listed in the AD as of September 9, 2010.

We must receive comments on this AD by October 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Cindy Ashforth, Aerospace Engineer, International Branch, ANM-116, Transport Airplane Directorate, FAA, 1601 Lind Avenue, SW., Renton, Washington 98057-3356; telephone (425) 227-2768; fax (425) 227-1149.

SUPPLEMENTARY INFORMATION:

Discussion

The Agência Nacional de Aviação Civil (ANAC), which is the aviation authority for Brazil, has issued Brazilian Airworthiness Directives 2010-07-02 and 2010-07-03, both effective July 31, 2010 (referred to after this as “the MCAI”), to correct an unsafe condition for the specified products. The MCAI states:

It has been found the possibility of right hand (RH) engine compressor stall after the Auxiliary Power Unit (APU) becomes the active bleed source for the left side.

The most critical condition identified is:

—Both engines close to idle (e.g.: descent phase); and

—APU running; and

—APU bleed button pushed in.

In this condition, if the left hand (LH) engine fails, the APU bleed valve and the crossbleed valve may be both in the open position for a few seconds, [which] may lead to a backpressure in RH engine depending on APU bleed pressure. Such backpressure may cause an RH engine compressor stall, culminating in a dual engine failure.

* * * * *

The corrective action includes revising the Limitations sections of the applicable airplane flight manual to inform operators about the possibility of having an engine stall after the APU becomes the active bleed source for the left side and to specify the condition where APU bleed must not be used. You may obtain further information by examining the MCAI in the AD docket.

Interim Action

We consider this AD interim action. If final action is later identified, we might consider further rulemaking then.

Relevant Service Information

EMBRAER has issued Operational Bulletin 170-001/09, Revision 1, dated February 10, 2010, applicable to both Model ERJ 170 and ERJ 190 airplanes. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because, if the LH engine fails, backpressure in the RH engine, depending on APU bleed pressure, can cause a RH engine compressor stall, culminating in a dual engine failure. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0799; Directorate Identifier 2010-NM-157-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-18-01 Empresa Brasileira de Aeronautica S.A. (EMBRAER): Amendment 39-16414. Docket No. FAA-2010-0799; Directorate Identifier 2010-NM-157-AD.

Effective Date

(a) This airworthiness directive (AD) becomes effective September 9, 2010.

Affected ADs

(b) None.

Applicability

(c) This AD applies to Empresa Brasileira de Aeronautica S.A. (EMBRAER) Model ERJ 170-100 LR, -100 STD, -100 SE, and -100 SU airplanes; Model ERJ 170-200 LR, -200 SU, and -200 STD airplanes; Model ERJ 190-100 STD, -100 LR, -100 ECJ, and -100 IGW airplanes; and Model ERJ 190-200 STD, -200 LR, and -200 IGW airplanes; certificated in any category, all serial numbers.

Subject

(d) Air Transport Association (ATA) of America Code 49: Airborne auxiliary power.

Reason

(e) The mandatory continued airworthiness information (MCAI) states:

It has been found the possibility of right hand (RH) engine compressor stall after the Auxiliary Power Unit (APU) becomes the active bleed source for the left side.

The most critical condition identified is:

—Both engines close to idle (e.g.: descent phase); and

—APU running; and

—APU bleed button pushed in.

In this condition, if the left hand (LH) engine fails, the APU bleed valve and the crossbleed valve may be both in the open position for a few seconds, [which] may lead to a backpressure in RH engine depending on APU bleed pressure. Such backpressure may cause an RH engine compressor stall, culminating in a dual engine failure.

* * * * *

Compliance

(f) You are responsible for having the actions required by this AD performed within the compliance times specified, unless the actions have already been done.

Actions

(g) Within 14 days after the effective date of this AD, revise the Limitations section of the applicable airplane flight manual (AFM) to include the information in EMBRAER Operational Bulletin 170-001/09, Revision 1, dated February 10, 2010, as specified in the operational bulletin. This operational bulletin introduces limitations for the use of APU bleed.

Note 1: This may be done by inserting a copy of EMBRAER Operational Bulletin 170-001/09, Revision 1, dated February 10, 2010, into the AFM. When this operational bulletin has been included in general revisions of the AFM, the general revisions may be inserted in the AFM, provided the relevant information in the general revision is identical to that in the operational bulletin, and the operational bulletin can be removed.

FAA AD Differences

Note 2: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Cindy Ashforth, Aerospace Engineer, International Branch, ANM-116, Transport Airplane Directorate, FAA, 1601 Lind Avenue, SW., Renton, Washington 98057-3356; telephone (425) 227-2768; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Brazilian Airworthiness Directives 2010-07-02 and 2010-07-03, both effective July 31, 2010; and EMBRAER Operational Bulletin 170-001/09, Revision 1, dated February 10, 2010; for related information.

Material Incorporated by Reference

(j) You must use EMBRAER Operational Bulletin 170-001/09, Revision 1, dated February 10, 2010, to do the actions required by this AD, unless the AD specifies otherwise.

(1) The Director of the Federal Register approved the incorporation by reference of this service information under 5 U.S.C. 552(a) and 1 CFR part 51.

(2) For service information identified in this AD, contact Empresa Brasileira de Aeronautica S.A. (EMBRAER), Technical Publications Section (PC 060), Av. Brigadeiro Faria Lima, 2170—Putim—12227-901 São Jose dos Campos—SP—BRASIL; telephone +55 12 3927-5852 or +55 12 3309-0732; fax +55 12 3927-7546; e-mail distrib@embraer.com.br; Internet: http://www.flyembraer.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on August 13, 2010.
Ali Bahrami,
Manager, Transport Airplane Directorate, Aircraft Certification Service.

[FR Doc. 2010-20841 Filed 8-24-10; 8:45 am]

BILLING CODE 4910-13-P